SOCIAL SECURITY ADMINISTRATION

[Program Announcement No. SSA-OESP-01-2]

Program: Cooperative Agreements for Benefits Planning, Assistance, and Outreach Projects

AGENCY: Social Security Administration.

ACTION: Announcement of the availability of fiscal year 2001 cooperative agreement funds and second request for applications.

SUMMARY: The Social Security Administration (SSA) announces its intention to competitively award cooperative agreements to establish community-based benefits planning, assistance, and outreach projects in certain States and portions of States. The purpose of these projects is to disseminate accurate information to beneficiaries with disabilities (including transition-to-work aged youth) about work incentives programs and issues related to such programs, to enable them to make informed choices about work.

DATES: The closing date for receipt of cooperative agreement applications under this announcement is April 5, 2001.

Prospective applicants are also asked to submit, preferably by February 5, 2001, a fax, post card, or letter of intent that includes (1) the program announcement number (SSA-OESP-01-2) and title (Benefits Planning, Assistance, and Outreach Program); (2) the name of the agency or organization that is applying; and (3) the name, mailing address, email address, telephone number, and fax number for the organization's contact person.

The notice of intent is not required, is not binding, and does not enter into the review process of a subsequent application. The purpose of the notice of intent is to allow SSA staff to estimate the number of independent reviewers needed and to avoid potential conflicts of interest in the review. The notice of intent should be faxed to (410) 966-1278; mailed to Social Security Administration, Office of Employment Support Programs, Division of Employment Policy, 107 Altmeyer Building, 6401 Security Boulevard, Baltimore, Maryland 21235-6401; or emailed to TTWWIIA@ssa.gov.

FOR FURTHER INFORMATION CONTACT: Send questions about this announcement to the following Internet email address: TTWWIIA@ssa.gov. When sending in a question, reference program announcement number SSA-OESP-01-2 and the date of this announcement. Questions and answers will be posted to http://www.ssa.gov/work on the Frequently Asked_Questions page of the web site. Questioners will not be identified when questions are posted on the web site.

Although the Internet is the preferred method of communication, applicants who have questions about the program content of the application may also contact: Cindy Barcelles, Program Analyst, or Natalie Funk, Team Leader, Social Security Administration, Office of Employment Support Programs, Division of Employment Policy, 107 Altmeyer Building, 6401 Security Boulevard, Baltimore, Maryland 21235-6401. The telephone number for Cindy Barcelles is (410) 966-2668; for Natalie Funk, (410) 965-0078. The fax number is (410) 966-1278.

To obtain an application kit, see the instructions under part VI, section A. Although the Internet is SSA's preferred method of communication, for information regarding the application package, you may also contact: Phyllis Y. Smith, Dave Allshouse, or Gary Stammer, Social Security Administration, Office of Acquisition and Grants, Grants Management Team, 1-E-4 Gwynn Oak Building, 1710 Gwynn Oak Avenue, Baltimore, Maryland 21207-5279. The telephone numbers are: Phyllis Y. Smith, (410) 965-9518, Dave Allshouse, (410) 965-9262, or Gary Stammer, (410) 965-9501. The fax numbers are (410) 966-9310 or 966-1261.

SUPPLEMENTARY INFORMATION: President Clinton signed the bill that became Public Law 106-170 on December 17, 1999 to expand the availability of health care coverage for working individuals with disabilities, to establish a Ticket to Work and Self-Sufficiency Program in SSA to provide beneficiaries with disabilities meaningful opportunities to work, and to provide benefits planning and assistance services, and outreach to beneficiaries with disabilities, among other purposes. SSA must ensure that benefits planning, assistance, and outreach are available to all beneficiaries with disabilities nationally, on a statewide basis.

On May 31, 2000, SSA made an announcement of cooperative agreement funds and requested applications at 65 FR 34768. SSA's intent is to establish benefits planning, assistance and outreach services in every State and U.S. Territory, and in the District of Columbia, and to ensure that services are available to all SSA beneficiaries with disabilities throughout each. Applications in response to our first announcement were not received from, or did not score highly enough in a review by independent panelists to be awarded for, the following locations:

• The entire States of Alabama, Nevada, North Dakota, Oregon, South Carolina, Tennessee, and Virginia; and

• Certain counties in the States of Florida, Georgia, Louisiana, and Minnesota. (See part II, section C, Number, Size, and Duration of Projects.)

This announcement is to request applications for fiscal year (FY) 2001 cooperative agreement funds to provide direct benefits planning, assistance and outreach services to all SSA disability beneficiaries in the locations listed above.

Note: SSA has awarded separate contracts to three organizations (Cornell University, Virginia Commonwealth University (VCU), and the University of Missouri-Columbia (UMO-C)) to develop and provide technical assistance and training on SSA's programs and work incentives, Medicare and Medicaid, and on other Federal work incentives programs, to Benefits Planning, Assistance, and Outreach Program cooperative agreement awardees. The contractors for projects targeting the following States are:

Minnesota: Cornell—Thomas P. Golden, tpg3@cornell.edu, (607) 255-2731;

Alabama, Florida, Georgia, Louisiana, Nevada, South Carolina, Tennessee, or Virginia: VCU—Susan O'Mara, (757) 412-2342; or Vicki Brooke, (804) 828-1873;

North Dakota or Oregon: UMO-C—C. David Roberts, robertsc@missouri.edu (program/project management), or Diana Beckley, beckleyd@missouri.edu (SSA/benefits planning technical knowledge): (573) 882-3807.

SSA will conduct pre-application seminars to provide interested applicants with guidance and technical assistance in preparing their applications. Information about where and when the seminars will be held will be on our web site: www.ssa.gov/work/Service Providers/Contracts and grants/BPAO.

Table of Contents

Part I. Program Description

A. Introduction

B. Background

C. Purpose of the Benefits Planning, Assistance, and Outreach Program

D. Benefits Planning, Assistance, and Outreach Program Goals

Part II. Authority and Type of Awards

A. Statutory Authority and Catalog of Federal Domestic Assistance Number

B. Type of Awards

C. Number, Size, and Duration of Projects

D. Awardee Share of the Project Costs

Part III. The Application Process

A. Eligible Applicants

B. Targeted Geographic Area/Population

C. Application Process

D. Application Consideration

E. Application Approval

F. Costs

Part IV. Program Requirements

A. General Requirements

B. Description of Projects

C. Benefits Specialist Responsibilities and Competencies

D. Management Information and Reporting

E. Evaluation

Part V. Application Review Process and Evaluation Criteria

A. Screening Requirements

B. Evaluation Criteria

Part VI. Instructions for Obtaining and Submitting Application

A. Availability of Forms

B. Checklist for a Complete Application

C. Guidelines for Application Submission

Part I. Program Description

A. Introduction

Section 1149 of the Social Security Act, as added by section 121 of the Ticket to Work and Work Incentives Improvement Act of 1999 (TWWIIA), requires the Commissioner of Social Security (the Commissioner) to establish a community-based work incentives planning and assistance program. Under this program, the Commissioner is required to establish a competitive program of grants, cooperative agreements, or contracts to provide benefits planning and assistance. We have established a cooperative agreement program known as the Benefits Planning, Assistance, and Outreach (BPAO) Program to disseminate accurate information to beneficiaries with disabilities about work incentives programs and issues related to such programs.

B. Background

Even though employment opportunities have increased due to technology, legislation, and changes in societal attitudes, only a small percentage of Social Security Disability Insurance (SSDI) and/or disabled or blind Supplemental Security Income (SSI) beneficiaries leave the rolls because of work activity. There are a number of reasons for this. First, beneficiaries of SSDI and SSI based on disability or blindness, by definition, have serious disabilities, which limit choices in employment. However, disability advocates report that many individuals with disabilities who receive public assistance want to work, or increase their work activity, and may be willing to attempt to work or increase work activity, with proper assistance and support. There is also evidence that many individuals with severe disabilities do work and do not rely on income supports.

Second, people with disabilities who want to work face significant barriers. Many advocates and people with disabilities contend that the fear of losing health care benefits is the largest impediment. Public health insurance and long-term care services are usually tied to income support programs such as SSDI, SSI, and Temporary Assistance for Needy Families (TANF). Employment-based health insurance is frequently not available to those with disabilities due to pre-existing condition clauses or exclusions of treatment for mental illness. Private insurance is often unaffordable for people with serious illnesses and chronic or long-term impairments, since they are charged much higher than average premiums.

Third, while the SSDI, SSI, Medicare and Medicaid programs all contain valuable work incentives provisions which can extend cash benefits and medical coverage, they are under-used and, often, are poorly understood by beneficiaries and professionals alike. The complexity and nature of the work incentives, and the interrelationship of myriad Federal, State, and local programs on which beneficiaries rely, create uncertainty and fear. Beneficiaries are concerned that they may lose vital income supports and coverage for mental and physical health care if they attempt to work.

For example, many people with disabilities rely on a patchwork of financial supports that have different eligibility criteria and application procedures. The benefits derived from a number of these programs are means-tested. Increases in income can also cause rent increases in section 8 housing, loss of food stamps or public assistance payments. Many individuals who may be willing to risk the loss of cash benefits from TANF, SSDI or SSI cannot absorb the loss of housing subsidies and other supports.

Despite these barriers, many people with severe disabilities have managed to use existing services and work incentives to reach their goals of financial self-sufficiency, while retaining necessary supports. However, those who are successful in returning to work frequently report that the availability of a knowledgeable advocate made a difference in their ability to navigate complex program requirements and in their willingness to attempt to return to work. Further, the support of that advocate provided them a sense of security needed to maintain work activity. The projects funded under this cooperative agreement program are part of SSA's Employment Strategy for People with Disabilities to increase the number of beneficiaries who return to work and achieve self-sufficiency by delivering direct services to beneficiaries.

C. Purpose of the Benefits Planning, Assistance, and Outreach Program

The purpose of the Benefits Planning, Assistance, and Outreach Program is to provide Statewide benefits planning and assistance, including information on the availability of protection and advocacy services, to all SSDI and SSI beneficiaries with disabilities, and to conduct ongoing outreach to those beneficiaries with disabilities (and to their families) who are potentially eligible to participate in State or Federal work incentives programs.

The Benefits Planning, Assistance, and Outreach Program is required by TWWIIA and is part of SSA's employment strategy for people with disabilities. One of SSA's goals in implementing TWWIIA is to help achieve a substantial increase in the number of beneficiaries who return to work and achieve self-sufficiency. In support of this goal, SSA is seeking well-qualified applicants to provide SSDI and SSI beneficiaries with benefits planning, assistance, and outreach. While other parts of SSA's employment strategy for people with disabilities provide direct employment services to help beneficiaries become employed or increase their level of employment, this program aims to improve beneficiaries' understanding of work options so that they may make more informed choices regarding work.

D. Benefits Planning, Assistance, and Outreach Program Goals

The goal of the Benefits Planning, Assistance, and Outreach Program is to support SSA's overall employment strategy for persons with disabilities by providing benefits planning and assistance, and conducting outreach to beneficiaries with disabilities, about Federal, State, and local work incentives programs and related issues.

To assist SSA in assessing the scope and utility of outreach and information provided under this program, each project will be required to:

1. collect data pertaining to benefits planning and assistance, and outreach activities as described in Part IV, Section D, Management Information and Reporting; and

2. cooperate with SSA in providing the information needed for a customer satisfaction survey on the quality of the benefits planning and assistance services being provided and for an assessment of the success of the Benefits Planning, Assistance, and Outreach Program.

Note: SSA plans to conduct such surveys in years two and five of the projects. More frequent surveys may be conducted if a need is indicated by the results of the first survey.

SSA will evaluate the data in 1. above and the results of the customer satisfaction surveys to determine the extent to which the projects were effective in providing benefits planning and assistance services, and outreach. The effectiveness of the projects will be measured by the range of beneficiaries served and responses regarding the knowledge of SSA work incentives and utility of benefits planning and assistance services. Data to be collected will include information about:

• Beneficiaries who receive comprehensive, coordinated benefits planning and assistance services, and outreach;

• Beneficiaries' demographic characteristics;

• Beneficiaries' income support characteristics (including earnings and SSA and non-SSA benefits);

• Beneficiaries' non-income support characteristics (including access to public and private health care); and

• Beneficiaries' work and benefit related goals and strategies.

Part II. Authority and Type of Awards

A. Statutory Authority and Catalog of Federal Domestic Assistance Number

Legislative authority for this cooperative agreement program is in section 1149 of the Social Security Act (the Act), as established by section 121 of the TWWIIA, Public Law 106-170. The regulatory requirements that govern the administration of SSA awards are in the Code of Federal Regulations, title 45, parts 74 and 92. Applicants are urged to review the requirements in the applicable regulations. This program is listed in the Catalog of Federal Domestic Assistance under Program No. 96.008, Social Security Administration—Benefits Planning, Assistance, and Outreach Program.

B. Type of Awards

All awards made under this program will be in the form of cooperative agreements. A cooperative agreement anticipates substantial involvement between SSA and the awardee during the performance of the project. Involvement will include collaboration or participation by SSA in the management of the activity as determined at the time of the award. For example, SSA will be involved in decisions involving strategy, hiring of personnel, deployment of resources, release of public information materials, quality assurance, and coordination of activities with other offices.

C. Number, Size, and Duration of Projects

Section 1149(d) of the Act authorizes annual appropriations not to exceed $23 million for FYs 2000 through 2004. Actual funding availability during this period is subject to annual appropriation by Congress. If funds are available, SSA intends to fund a limited number of awards in FY 2001. SSA anticipates that all awards under this announcement will be made by April 30, 2001.

SSA will award a cooperative agreement to a qualified entity based in part on the number of beneficiaries with disabilities in the State where the project is located, with the following limitations:

• No entity shall receive a cooperative agreement for a fiscal year that is less than $50,000 or more than $300,000; and

• The total amount of all grants, cooperative agreements, or contracts awarded for the Benefits Planning, Assistance, and Outreach Program for any fiscal year (including amounts awarded for technical assistance and training contracts) may not exceed $23 million.

Within these limitations, SSA intends to establish as many projects as needed to ensure Statewide benefits planning, assistance, and outreach to all SSDI and SSI beneficiaries nationally. The applicant must demonstrate in sufficient detail that the number of beneficiaries with disabilities within the targeted area is sufficient to support a minimum award ($50,000), considering that SSA must ensure that all disability beneficiaries have access to benefits planning, assistance, and outreach.

Subject to the availability of funds, SSA anticipates that the following amounts per State would be available to fund all of the Benefits Planning, Assistance and Outreach Program projects in these States, in FY 2001:

• Alabama—$474,952*

• Nevada—101,872

• North Dakota—50,000

• Oregon—206,037

• South Carolina—375,854*

• Tennessee—562,173*

• Virginia—468,588*

*Note: No entity may receive an award of more than $300,000.

Subject to the availability of funds, SSA anticipates that the following amounts would be available for projects targeting the following groups of counties in these States, in FY 2001:

• Florida

Charlotte, Collier, Desoto, Glades, Hardee, Hendry, Highlands, Lee and Okeechobee—$64,728

Alachua, Baker, Bay, Bradford, Brevard, Calhoun, Clay, Columbia, Dixie, Duval, Escambia, Flagler, Franklin, Gadsden, Gilchrist, Gulf, Hamilton, Holmes, Indian River, Jackson, Jefferson, Lafayette, Leon, Liberty, Madison, Marion, Nassau, Okaloosa, Putnam, St. Johns, Santa Rosa, Suwanne, Taylor, Union, Volusia, Wakulla, Walton, Washington—$329, 619*

*Note: No entity may receive an award of more than $300,000.

• Georgia

Appling, Atkinson, Bacon, Baker, Banks, Bartow, Ben Hill, Berrien, Brantley, Brooks, Bryan, Bulloch, Burke, Calhoun, Camden, Candler, Catoosa, Charlton, Chatham, Chattahootchee, Chattooga, Clay, Clinch, Coffee, Colquitt, Columbia, Cook, Coweta, Dade, Dawson, Decatur, Early, Echols, Effingham, Elbert, Emanuel, Evans, Fannin, Floyd, Franklin, Gilmer, Glascock, Glynn, Gordon, Grady, Greene, Habersham, Haralson, Harris, Hart, Heard, Irwin, Jackson, Jeff Davis, Jefferson, Jenkins, Johnson, Lamar, Lanier, Liberty, Lincoln, Long, Lowndes, Lumpkin, McDuffie, McIntosh, Madison, Marion, Meriwether, Miller, Mitchell, Montgomery, Murray, Muscogee, Oglethorpe, Pickens, Pierce, Pike, Polk, Quitman, Rabun, Randolph, Richmond, Schley, Screven, Seminole, Spalding, Stephens, Stewart, Sumter, Talbot, Taliaferro, Tattnall, Taylor, Telfair, Terrell, Thomas, Tift, Toombs, Towns, Treutlen, Troup, Turner, Union, Upson, Walker, Ware, Warren, Wayne, Webster, Wheeler, White, Whitfield, Wilcox, Wilkes, Worth—$313,908*

*Note: No entity may receive an award of more than $300,000.

• Louisiana

Jefferson, Lafourche, Orleans, Plaquemines, St. Bernard, St. Charles, St. James, St. John the Baptist—$135,882

• Minnesota

Aitkin, Anoka, Becker, Beltrami, Benton, Big Stone, Brown, Carlton, Carver, Cass, Chippewa, Chisago, Clay, Clearwater, Cook, Cottonwood, Crow Wing, Douglas, Grant, Hennepin, Hubbard, Isanti, Itasca, Jackson, Kanabec, Kandiyohi, Kittson, Koochiching, Lac qui Parle, Lake, Lake of the Woods, Lincoln, Lyon, McLeod, Mahnomen, Marshall, Martin, Meeker, Mille Lacs, Morrison, Murray, Nicollet, Nobles, Norman, Otter Tail, Pennington, Pine, Pipestone, Polk, Pope, Ramsey, Red Lake, Redwood, Renville, Rock, Roseau, St. Louis, Sherburne, Sibley, Stearns, Stevens, Swift, Todd, Traverse, Wadens, Washington, Watonwan, Wilkin, Wright, Yellow Medicine—$214,635

SSA intends to enter into cooperative agreements during the 5-year authorization period subject to the availability of annual appropriations by Congress. SSA may suspend or terminate any cooperative agreement in whole or in part at any time before the date of expiration, whenever it determines that the awardee has materially failed to comply with the terms and conditions of the cooperative agreement. SSA will promptly notify the awardee in writing of the determination and the reasons for suspension or termination together with the effective date.

D. Awardee Share of the Project Costs

Awardees of SSA cooperative agreements are required to contribute a non-Federal match of at least 5 percent toward the cost of each project. The cost of the project is the sum of the Federal share (up to 95 percent) and the non-Federal share (at least 5 percent). For example, an entity that is awarded a cooperative agreement of $100,000 would need a non-Federal share of at least $5,263. The non-Federal share may be cash or in-kind (property or services) contributions.

Part III. The Application Process

A. Eligible Applicants

A cooperative agreement may be awarded to any State or local government, public or private organization, or nonprofit or for-profit organization that the Commissioner determines is qualified to provide benefits planning, assistance, and outreach to all SSDI and SSI beneficiaries with disabilities, within the targeted geographic area. Awardees may include Centers for Independent Living established under title VII of the Rehabilitation Act of 1973, protection and advocacy organizations, Native American tribal entities, client assistance programs established in accordance with section 112 of the Rehabilitation Act of 1973, State Developmental Disabilities Councils established in accordance with section 124 of the Developmental Disabilities Assistance and Bill of Rights Act, and State agencies administering the State program funded under part A of title IV of the Act. The Commissioner may also award a cooperative agreement to a State or local Workforce Investment Board, a Department of Labor (DOL) One-Stop Career Center System established under the Workforce Investment Act of 1998, or a State vocational rehabilitation agency.

SSA encourages applications from public or private agencies or organizations, including from local or divisional offices of larger or statewide agencies or organizations.

Applications from local or divisional offices of larger entities, however, must demonstrate that the local or divisional office has authority to enter into cooperative agreements and to be ultimately responsible for funds.

Note: For-profit organizations may apply with the understanding that no cooperative agreement funds may be profit to an awardee of a cooperative agreement. Profit is considered as any amount in excess of the allowable costs of the cooperative agreement awardee. A for-profit organization is a corporation or other legal entity that is organized or operated for the profit or benefit of its shareholders or other owners and must be distinguishable or legally separable from that of an individual acting on his/her own behalf. Applications will not be accepted from applicants which do not meet the above eligibility criteria at the time of submission of applications.

Cooperative agreements may not be awarded to:

• Any individual;

• Social Security Administration Field Offices;

• Any State agency administering the State Medicaid program under title XIX of the Act;

• Any entity that the Commissioner determines would have a conflict of interest if the entity were to receive a cooperative agreement under the Benefits Planning, Assistance, and Outreach Program; or

• Any organization described in section 501(c)(4) of the Internal Revenue Code of 1968 that engages in lobbying (in accordance with section 18 of the Lobbying Disclosure Act of 1995, 2 U.S.C. 1611).

Note: Any protection and advocacy organization must fully explain how it will ensure there will be no conflict of interest between providing benefits planning and assistance services and outreach, and delivering protection and advocacy services to beneficiaries. In particular, they must show how they will ensure full protection and advocacy services will be provided when the complaint is against the Benefits Specialist or organization. Also, any organization that will apply to be an employment network under SSA's Ticket to Work and Self-Sufficiency Program must fully explain how it will ensure there will be no conflict of interest if it also receives a cooperative agreement to provide benefits planning, assistance, and outreach. This is especially important in the area of assisting beneficiaries with PASS plans or other work incentives which will enable them to keep receiving benefits, thus delaying, or preventing entirely, payments to the employment network.

B. Targeted Geographic Area/Population

To ensure statewide availability of benefits planning, assistance, and outreach, as required by section 1149 of the Act, SSA intends to award cooperative agreements partly on the basis of geographic area.

While SSA recognizes that not every SSDI or SSI beneficiary with a disability will access benefits planning, assistance, and outreach, it must be available to each via the project targeting a specific geographic area. Therefore, each awarded project must make those services available to all SSDI and SSI beneficiaries with disabilities within the geographic area it serves. Because youth with disabilities is such an important population to target for those services, each project must make benefits planning, assistance, and outreach available to SSI recipients as young as age 14. In providing benefits planning, assistance, and outreach, projects must make concerted and aggressive efforts to address the needs of underserved individuals with disabilities from diverse ethnic and racial communities (e.g., Native Americans, Vietnamese). In particular, applicants should show how they intend to do outreach in ways that ensure interaction with diverse communities and must specify the geographic area they wish to cover.

Entities are encouraged to collaborate with other public and/or private organizations (e.g., DOL One-Stop Career Center), through interagency agreements or other mechanisms, if necessary, to integrate services to beneficiaries with disabilities. Entities should also consider collaboration with other organizations to prepare an application for a cooperative agreement to provide benefits planning, assistance, and outreach to all beneficiaries within a specific area. For example, Native American tribal governments may collaborate to develop a proposal to cover specified reservation lands.

All applications developed jointly by more than one agency or organization must identify only one organization as the lead organization and official applicant. The other participating agencies and organizations can be included as co-applicants, subgrantees or subcontractors. However, where more than the maximum award amount is requested, and would be awarded for the targeted geographic area, collaborating agencies should submit separate applications.

C. Application Process

The cooperative agreement application process consists of a one-stage, full application. Independent reviewers will competitively review the application against the evaluation criteria specified in this announcement (see Part V). Applications will be reviewed against others targeting the same State or locality; for example, an application targeting the State of Alabama will be competitively reviewed against all other applications targeting Alabama, including any that might target both Georgia and Alabama, or only specific portions of Alabama. (SSA must ensure that all beneficiaries with disabilities have access to benefits planning, assistance, and outreach throughout each of the States.)

D. Application Consideration

Applications will be initially screened for relevance to this announcement. If judged irrelevant, the application will be returned to the applicant. Also, applications that do not meet the applicant eligibility criteria in Section A above will not be accepted.

Applications that are complete and conform to the requirements of this announcement, the instructions in Form SSA-96-BK, and the separate instructions for completing Part III, Program Narrative (of the SSA-96-BK), will be reviewed competitively against the evaluation criteria specified in Part V of this announcement and evaluated by Federal and non-Federal personnel. See part VI for instructions on obtaining Form SSA-96-BK. The results of this review and evaluation will assist the Commissioner in making award decisions. Although the results of this review are a primary factor considered in making the decisions, the review score is not the only factor used. In selecting eligible applicants to be funded, consideration will be given to achieving statewide accessibility to benefits planning, assistance, and outreach to avoiding unnecessary duplication of effort.

The application requirements in part IV are the minimum amount of required project information. Projects are responsible for collecting management information (MI) according to the guidelines provided, producing regular reports according to the guidelines provided, and producing a final report which analyzes the successes and/or failures of the methodology used to provide benefits planning, assistance, and outreach to SSDI and SSI beneficiaries, and others.

All projects must adhere to SSA's Privacy and Confidentiality Regulations (20 CFR part 401) for maintaining records of individuals, as well as provide specific safeguards surrounding beneficiary information sharing, paper/computer records/data, and other issues potentially arising from providing benefits planning, assistance, and outreach to SSDI and SSI beneficiaries with disabilities.

E. Application Approval

Cooperative agreement awards will be issued within the constraints of available Federal funds and at the discretion of SSA. The official award document is the “Notice of Cooperative Agreement Award.” It will provide the amount of the award, the purpose of the award, the term of the agreement, the total project period for which support is contemplated, the amount of financial participation required, and any special terms and conditions of the cooperative agreement.

F. Costs

Federal cooperative agreement funds may be used for allowable costs incurred by awardees in conducting direct benefits planning, assistance, and outreach services to SSA's beneficiaries with disabilities. These costs could include administrative and overall project management costs, within the limitations discussed earlier.

Federal cooperative agreement funds are not intended to cover costs that are reimbursable under an existing public or private program, such as social services, rehabilitation services, or education. No SSDI or SSI beneficiary can be charged for any service delivered under a Benefits Planning, Assistance, and Outreach Program cooperative agreement, including preparing a PASS. Benefits planning and assistance services are intended to be free and must be made accessible to all SSA beneficiaries with disabilities in the project's target geographical area. Project funds should not be used to create new benefits or extensions of existing benefits.

Part IV. Program Requirements

A. General Requirements

The cooperative agreement awardees shall:

1. Provide the location of the targeted service area(s) (by county, and independent city in VA) to SSA as part of the application (see Part III, Section B, Targeted Geographic Area/Population);

2. Work with SSA's technical assistance and training contractor in arranging training for Benefits Specialists;

3. Provide a brief project description to the contractor;

4. Employ Benefits Specialists and have them attend an initial 5-day face-to-face training session within 90 days of award of the cooperative agreement. SSA's technical assistance and training contractor will provide technical assistance and training to projects about SSA's programs and work incentives (e.g., trial-work period (TWP), extended period of eligibility (EPE), impairment-related work expenses (IRWE), Plan for Achieving Self-Support (PASS), 1619(a) and (b), and Medicaid buy-in provisions/Balanced Budget Act); Medicare and Medicaid; and on other Federal work incentives programs. (SSA will attend that training session to provide a half-day orientation session for project directors.) The applicant is responsible for providing technical assistance and training to Benefits Specialists about State and local programs.

5. Have Benefits Specialists attend refresher/follow-up and new hire training sessions, as needed, and take part in the evaluation of training activities and the evaluation of ongoing training needs evaluation by the contractor.

6. Within 90 days after award, the applicant will ensure Benefits Specialists have completed training, have developed outreach plans and begun initial outreach, and are prepared to provide direct benefits planning and assistance services to all SSDI and SSI beneficiaries with disabilities within the targeted geographic area who are requesting these services;

7. Finalize the MI system data collection elements (as defined by SSA) and procedures with SSA within 60 days after award;

8. Develop and submit quarterly reports that contain MI to SSA, Office of Acquisition and Grants (OAG);

9. Develop and submit quarterly financial reports to SSA, OAG;

10. Provide a description of all planned changes to the project design for approval by SSA prior to implementation;

11. Cooperate with SSA in scheduling and conducting site visits;

12. Develop and maintain a collaborative working relationship with the local servicing Social Security office;

13. Implement an ongoing management and quality assurance process that uses MI data; and

14. Attend scheduled conferences, participate in panel and small group discussions, and make project presentations.

B. Description of Projects

The project awardees shall:

• Provide direct individualized benefits planning and assistance, including information on the availability of protection and advocacy services, to beneficiaries with disabilities, including individuals participating in the Ticket to Work and Self-Sufficiency Program established under section 1148 of the Act, the program established under section 1619 of the Act, and other programs that are designed to encourage disabled beneficiaries to work;

• Conduct ongoing outreach efforts to beneficiaries with disabilities (and to the families of such beneficiaries) who are potentially eligible to participate in Federal or State work incentives programs that are designed to assist beneficiaries with disabilities to work, by preparing and disseminating information and explaining such programs. In conducting benefits planning, assistance, and outreach activities, project awardees will work in cooperation with other Federal, State, and private agencies and nonprofit organizations that serve beneficiaries with disabilities, and with agencies and organizations that focus on vocational rehabilitation and work-related training and counseling, including DOL One-Stop Career Centers.

In order to be considered for an award, applicants must describe:

• Their understanding of benefits planning and assistance, including the benefits programs with which they have worked in the past;

• How they will notify all SSDI and SSI beneficiaries with disabilities in the targeted geographic area about benefits planning and assistance and provide those services to beneficiaries;

• Their understanding of outreach, and how they will conduct outreach to all SSDI and SSI beneficiaries with disabilities (and their families) in the targeted geographic area who are potentially eligible to participate in Federal or State work incentives programs designed to assist beneficiaries with disabilities to work, and, particularly, how the outreach strategies, information, and materials will be modified to seek out different ethnic and racial groups;

• The scope of the project; and

• How that project achieves the Benefits Planning, Assistance, and Outreach Program goals in Part I, Section D.

The applicants must also describe how they will address any special cultural requirements of populations (e.g., Native Americans) within the targeted geographic area, as well as non-English speaking populations (e.g., Vietnamese) and SSI recipients as young as age 14.

In providing benefits planning and assistance services, and conducting outreach, projects must be sensitive to issues such as cultural differences and non-English speaking populations within the areas they serve (e.g., Native Americans, Vietnamese). Specifically, projects must address the needs of underserved individuals with disabilities from diverse ethnic and racial communities and show how they intend to provide outreach in ways that ensure interaction with diverse communities.

Applicants must also provide information on:

• Collaborative relationships with relevant agencies, including SSA's field offices, and organizations (e.g., Centers for Independent Living, DOL One-Stop Career Centers);

• Specific services and supports that will be involved in the project and their roles;

• Case management and monitoring systems and techniques to be used;

• Methods of evaluating benefits planning, assistance, and outreach provided; and

• The MI and quality assurance process that will be used.

Applicants must also describe how Benefits Specialists will be trained on numerous supports which are often used by people with disabilities, such as long-term care, subsidized housing, paratransit, and food stamps; variations in benefits and services in the State in which the applicant is located; the State's work incentives programs; workers' compensation and unemployment insurance programs; vocational rehabilitation services; work-related training and counseling programs; and other community-based support programs designed to enable people with disabilities to work.

Applicants must also describe how Benefits Specialists will be trained to conduct outreach by providing information, guidance, and planning to beneficiaries with disabilities on the:

• Availability and interrelation of any Federal or State work incentives programs designed to assist beneficiaries with disabilities for which the individual may be eligible to participate;

• Adequacy of any health benefits coverage that may be offered by an employer of the individual and the extent to which other health benefits coverage may be available to the individual; and

• Availability of protection and advocacy services for beneficiaries with disabilities and how to access such services.

Note: The technical assistance and training contractor may provide technical assistance materials to enable project Benefits Specialists to get information about the subjects in the preceding paragraphs. However, each awardee shall be responsible for ensuring that Benefits Specialists are well-versed in these areas.

Applicants must describe any plans they have to collaborate or coordinate with public and private organizations to achieve and/or improve their project goals and submit evidence to SSA of these organizations' capabilities, and willingness to participate (e.g., letters of intent, memoranda of understanding). Applicants should not request letters of intent or commitment from SSA field offices. SSA will assure field office cooperation.

Each applicant must describe the number of beneficiaries with disabilities it expects to serve. If the target group is not large enough to justify a minimum award of $50,000, the applicant will not be considered further.

Note: All SSDI and SSI beneficiaries (including SSI recipients as young as age 14) within the geographic area served by the project, must be able to access benefits planning, assistance, and outreach via the project.

The project may be part of a larger State initiative; e.g., a DOL One-Stop Career Center, that serves other individuals with disabilities, such as TANF recipients; however, funds provided by SSA under the cooperative agreements cannot be used to serve people with disabilities who are not beneficiaries of SSDI and/or SSI.

C. Benefits Specialist Responsibilities and Competencies

1. Responsibilities

Cooperative agreement awardees shall select individuals who will act as Benefits Specialists. Benefits Specialists will provide work incentives planning and assistance directly to beneficiaries with disabilities; conduct outreach efforts to beneficiaries with disabilities (and their families), who are potentially eligible to participate in Federal or State work incentives programs designed to assist disabled beneficiaries to work; and work in cooperation with Federal, State, and private agencies and nonprofit organizations that serve beneficiaries with disabilities. Benefits Specialists will also provide information on the adequacy of health benefits coverage that may be offered by an employer of a beneficiary with a disability; the extent to which other health benefits coverage may be available to that beneficiary; and the availability of protection and advocacy services for beneficiaries with disabilities, and how to access such services.

Benefits Planning

Benefits planning requires an in-depth understanding of the current status of a beneficiary being served. Initial benefits planning will support a beneficiary over a period of several weeks to several months, concluding when the beneficiary has received guidance to support informed choices. Benefits Specialists will establish plans for beneficiaries with disabilities, and develop long-term supports that may be needed to ensure success. Following the initial benefits planning process, they will provide periodic, follow-up planning services to ensure that the information, analysis, and guidance are updated as new conditions (with regard to the applicable programs or to the individual's situation) arise.

To provide benefits planning services, Benefits Specialists will:

• Obtain and evaluate comprehensive information about a beneficiary with a disability, on the following:

—Beneficiary background information,

—Disability,

—Employment and earnings,

—Resources,

—Federal and State benefits,

—Health insurance,

—Work expenses,

—Work incentives, and

—Service(s) and supports;

• Assess the potential impacts of employment and/or other changes on a beneficiary's Federal and State benefits eligibility and overall financial well-being;

• Provide information and assist the beneficiary in understanding and assessing the potential impacts of employment and/or other actions or changes on his/her life situation, and provide specific guidance regarding the affects of various work incentives;

• Develop a comprehensive framework of possible options available to a beneficiary and projected results for each as part of the career development and employment process; and

• Ensure confidentiality of all information provided.

Benefits Assistance

Benefits assistance involves the delivery of information and direct supports for the purpose of assisting a beneficiary in dealing with benefit issues and effectively managing benefits. Benefits assistance also involves providing information and referral and problem-solving services as needed. Benefits management services will generally build on previous planning and assistance services and include periodic updates of an individual's specific information, reassessment of benefit(s) and overall impacts, education and advisement, and additional planning for monitoring and managing benefits and work incentives.

To provide benefits assistance services, Benefits Specialists will:

• Provide time-limited direct assistance to a beneficiary in the development of a comprehensive, long-term benefits management plan to guide the effective monitoring and management of Federal and State benefits and work incentives. Specific components of the plan must address:

—Desired benefit and work outcomes,

—Related steps or activities necessary to achieve outcomes,

—Associated dates or time frames,

—Building on initial benefits planning efforts including information gathering, analysis and advisement, and

—Benefits/financial analysis (pre- and post-employment);

• Provide time-limited, intensive assistance to beneficiaries, their key stakeholders, and their support teams in making informed choices and establishing both employment-related goals as well as needed benefits management supports. Needed benefits assistance could include:

—How SSDI and SSI work incentives programs may lead to self-supporting employment by developing a PASS,

—Developing a PASS which can be used to obtain training, education, and entrepreneurial opportunities,

—How a PASS can be used to address some of the barriers to employment, such as obtaining a car for transportation needs, and

—The 1619(b) provisions and requirements;

• Advocate on behalf of a beneficiary with other agencies and programs, which requires in-person, telephone and/or written communication with the individual and other involved parties generally over a period of several weeks to several months;

• Provide time-limited follow-up assistance as needed to beneficiaries who have previously received benefits planning and/or other types of benefits assistance services and:

—Assist them and other involved parties to update information,

—Reassess impact of employment and other changes on benefits and work incentives, and

—Provide additional guidance on benefit options, issues and management strategies;

• Assist beneficiaries as needed to update benefits management plan;

• Provide information, referral, and problem-solving support;

• Provide ongoing, comprehensive, benefits monitoring and management assistance to beneficiaries who are likely to experience employment, benefits, or other changes that may dramatically affect their benefit(s) status, health care, or overall financial well being; and

• Provide long-term benefits management on a scheduled, continuous basis, allowing for the planning and provision of supports at regular checkpoints, as well as critical transition points in an individual's benefits, employment and overall situation.

Outreach

Outreach activities are ongoing, systematic efforts to inform individuals of available work incentives, as well as the services and supports available to enable them to access and benefit from those work incentives. Outreach efforts should be targeted directly to SSDI and SSI beneficiaries with disabilities, their families, and to advocacy groups and service provider agencies that have regular contact with them. Outreach activities should be directed toward and sensitive to the needs of individuals from diverse ethnic backgrounds, persons with English as their second language, as well as non-English speaking persons, individuals residing in highly urban or rural areas, and other traditionally underserved groups.

To conduct ongoing outreach, Benefits Specialists will:

• Prepare and disseminate information explaining Federal or State work incentives programs and their interrelationships; and

• Work in cooperation with other Federal, State, and private agencies and nonprofit organizations that serve beneficiaries with disabilities, and with agencies and organizations that focus on vocational rehabilitation and work-related training and counseling.

The Benefits Specialists will conduct outreach to SSDI and SSI beneficiaries with disabilities (and their families), who are potentially eligible to participate in Federal or State work incentives programs that are designed to assist beneficiaries with disabilities to work.

2. Competencies

Applicants must ensure that Benefits Specialists have the skills required to competently provide benefits planning and assistance services, and outreach. We prefer that cooperative agreement awardees use Benefits Specialists who have attained a bachelor's degree in a relevant field, or that they use Benefit Specialists with relevant experience. Benefit Specialists may possess a combination of education and experience if the experience provides the knowledge, skills and abilities to successfully perform the duties of the position.

Benefits Specialists should bring the following knowledge, skills, and abilities to the position:

• Basic math skills, with an emphasis on problem solving;

• Deductive ability with analytical thinking and creative problem solving skills;

• Acceptable interviewing skills;

• Ability to interpret Federal laws, regulations, and administrative code about public benefits;

• Communication skills (written and/or verbal);

• Knowledge of medical terminology and awareness of cultural and political issues pertaining to various populations and to various disabilities; and

• Basic computer skills.

Benefits Specialists will need to become proficient in the following knowledge, skills, and abilities:

• SSDI and SSI disability programs;

• Knowledge of all public benefits programs, including operations and inter-relationships;

• Translating technical information for lay individuals;

• Accessing information in a variety of ways (including the ability to be able to recognize when additional information is needed);

• Interpersonal skills (e.g., recognize and help people manage anger and conflict, enjoy working with individuals);

• Counseling skills (ability to listen, evaluate alternatives, advise on potential cause of action);

• Knowledge of SSA field office structure and how to work with various work incentives coordinators (e.g., PASS specialists, employment support representatives);

• Knowledge of the structure and design of public and private benefits systems and local community services; and

• Knowledge of ethics (e.g., confidentiality, conflict of interest).

The applicant must clearly explain how it will ensure all individuals hired as Benefits Specialists will possess or acquire the relevant knowledge, skills and abilities. SSA has contracted with separate entities to provide technical assistance and training to cooperative agreement awardees on an ongoing basis about SSA's programs and work incentives, Medicare and Medicaid, and other Federal work incentives programs. Those entities are: Cornell University for SSA Regions I, II and V (which includes Minnesota); Virginia Commonwealth University for Regions III (including Virginia), IV (including Alabama, Florida, Georgia, South Carolina, and Tennessee), VI (including Louisiana), and IX (including Nevada); and the University of Missouri, Columbia for Regions VII, VIII (including North Dakota), and X (including Oregon). The applicant is responsible for providing technical assistance and training to Benefits Specialists about State and local programs.

D. Management Information and Reporting

In addition to cooperating with the surveys outlined in Part I, Section D, entities must provide all collected data and report the results to SSA's Office of Acquisition and Grants, as described below.

Common data elements, as defined by SSA, will be collected by all projects. The awardee and SSA will use the management information (MI) data to manage the project and to determine what additional resources or other approaches may be needed to improve the process. The data will also be valuable to SSA in its analysis of and future planning for the SSDI and SSI programs.

All projects must adhere to SSA's Privacy and Confidentiality Regulations (20 CFR part 401) for maintaining records of individuals, as well as provide specific safeguards surrounding beneficiary information sharing, paper/computer records/data, and other issues potentially arising from providing benefits planning, assistance, and outreach to SSDI and SSI beneficiaries with disabilities.

All projects shall provide for the design, development, implementation, and maintenance of an MI system, which must be compatible with SSA database specifications that are fixed-format ASCII files. The MI system shall allow for necessary data collection on SSDI and SSI beneficiaries. For the purpose of providing MI to SSA in support of the implementation and management of the projects, projects will collect, analyze, and summarize the data listed below:

Beneficiary Background Information

1. Beneficiary/recipient name (Last, First, Middle)

2. Date of birth

3. Gender

4. Special language or other considerations

5. Mailing address

6. Telephone number

7. Social Security number

8. Representative payee (RP) name (if applicable)

9. RP address

10. Current level of education

11. Whether pursuing education currently and at what level (e.g., post secondary, continuing adult education, special education, vocational education)

12. Proposed educational goals

13. Primary diagnosis

14. Secondary diagnosis (if applicable)

15. Employer health care coverage at outset (if working)

16. Other health care coverage

Employment Information (current and proposed goal—where applicable)

1. Self-employed or employee

2. Type of work

3. Beginning date

4. Hours per week

5. Monthly gross earned income

6. Monthly net earned income

7. Work-related expenses

Proposed Training Information

1. Work-related training/counseling program

2. Proposed other training

Benefits (current and expected changes if employment goals are reached)

1. SSDI

2. SSI

3. Concurrent (SSDI and SSI)

4. Medicare

5. Medicaid

6. Subsidized housing or other rental subsidies

7. Food Stamps

8. General Assistance

9. Workers Compensation benefits

10. Unemployment Insurance benefits

11. Other Federal, State, or local supports, including TANF (specify)

Incentives To Be Used

1. Trial-work period (TWP)

2. Extended period of eligibility (EPE)

3. Impairment-related work expenses (IRWE)

4. Plan for achieving self-support (PASS)

5. 1619(a)

6. 1619(b)

7. Medicaid buy-in provisions/Balanced Budget Act

Services To Be Used

1. Vocational Rehabilitation services

2. Paratransit services

3. Protection and Advocacy services

4. Work-related training/counseling program

5. DOL One-Stop Career Center services

6. Transitioning youth services (from school to post-secondary education or to work)

Monthly Benefits Planning, Assistance, and Outreach Activities Performed by Benefits Planning Organization

1. Number of SSDI/SSI beneficiaries (over age 18) requesting assistance (initial and repeat requests)

2. Number of SSDI/SSI beneficiaries (ages 14 to 18) requesting assistance (initial and repeat requests)

3. Number of new benefits management plans prepared

4. Number of updated benefits management plans prepared

5. Number of presentations given at forums, conferences, meetings, etc.

All data elements are to be collected in accordance with precise definitions to be provided by SSA during start-up activities. Adherence to such precise definitions is crucial to the comparability of the data across project sites.

Entities awarded cooperative agreements under this notice shall submit quarterly progress reports to SSA, OAG. SSA expects that the projects will need a period of time to begin providing services and collecting management information. Therefore, the first quarterly report shall include a description of the project, a status of data collection operations, actions that were taken, planned actions, and a description of how the project is addressing the needs of individuals with disabilities from diverse ethnic and racial communities, both in benefits planning and in carrying out outreach activities.

Subsequent reports shall provide: a status of the project, any problems or proposed changes in the project (e.g., requests for technical assistance from contractor, interagency agreement change); specific information (baseline data/program statistics) required by SSA, including that listed above; a description of how the project is addressing the needs of individuals with disabilities from diverse ethnic and racial communities, both in benefits planning and in carrying out outreach activities; actions that were taken, and planned actions. The quarterly reports shall be submitted to SSA, OAG, within 30 days after the end of the quarter.

SSA personnel (SSA Project Officer and/or other staff) expect to visit each project at least once in each year of the cooperative agreement. The SSA Project Officer shall review site operations, including collection of management information, and evaluate how projects are finding ways to make benefits planning, assistance, and outreach activities more effective in achieving SSA's Benefits Planning, Assistance, and Outreach Program goals.

Staff members from each project shall attend an initial training meeting that will include an orientation session by SSA, and subsequent scheduled conferences at SSA headquarters or alternate sites chosen by SSA. Those meetings will provide awardees of cooperative agreements with the opportunity to exchange information with SSA and other awardees.

E. Evaluation

Process Evaluation

The purpose of process evaluation is for SSA and the awardee to assess how the project functioned and how the process might be altered to more efficiently and/or successfully provide the services required under section 1149 of the Act. The process evaluation will require both data collection and qualitative observational evaluation through site visits and/or project reporting.

Participant Experience

The goal of these cooperative agreements is the provision of services to enhance beneficiary awareness and understanding of SSA work incentives and thereby enhance beneficiaries' ability to make informed choices regarding work. The goal is not to provide employment services. Nevertheless, SSA is clearly interested in identifying participant outcomes under the Benefits Planning, Assistance, and Outreach Program to determine the extent to which participants achieve their employment, financial, and health care goals. Therefore, SSA is requiring that cooperative agreement awardees collect data regarding the employment status, benefit status, and income of beneficiaries before providing services under these cooperative agreements. SSA intends to use this information to support the sample selection for participants in the customer satisfaction survey. This will allow SSA to include the experiences and outcomes of a broad range of beneficiaries.

Each project shall submit periodic reports (as described in Part IV, Section D, Management Information and Reporting) to SSA, OAG. Data and information that are used in preparing the reports can be used, for example, to improve the efficiency of the project's operations, use of staff, and linkages between the project and the programs for which benefits planning is needed to better meet the needs of target populations. In addition, the evaluation results will be disseminated to other projects to promote learning, program refinements, and facilitate partnership and achievement of project objectives. Timely comprehensive MI data also allows for cost accounting, which helps improve the efficiency of service approaches and may inform future policy decisions.

Part V. Application Review Process and Evaluation Criteria

A. Screening Requirements

All applications that meet the deadline will be screened to determine completeness and conformity to the requirements of this announcement. Complete and conforming applications will then be evaluated.

1. Number of Copies: The applicant must submit one original signed and dated application and a minimum of two copies. The submission of seven additional copies is optional and will expedite processing, but will not affect the evaluation or scoring of the application.

2. Length: The program narrative portion of the application (Part III of the SSA-96-BK) may not exceed 30 double-spaced pages (or 15 single-spaced pages) on one side of the paper only, using standard (8½″ x 11″) size paper, and 12-point font. Attachments that support the program narrative count towards the 30-page limit.

B. Evaluation Criteria

Applications that pass the screening process will be independently reviewed by at least three individuals, who will evaluate and score the applications based on the evaluation criteria. There are four categories of criteria used to score applications: capability; relevance/adequacy of program design; resources and management; and quality assurance plan. The total points possible for an application is 100, and sections are weighted as noted in the descriptions of criteria below.

Although the results from the independent panel reviews are the primary factor used in making funding decisions, they are not the sole basis for making awards. The Commissioner will consider other factors as well when making funding decisions. For instance, the need to assure the required geographic distribution of projects may take precedence over rankings/scores of the review panel.

Following are the evaluation criteria that SSA will use in reviewing all applications (relative weights are shown in parentheses):

1. Capability (20 points)

The applicant's capability to deliver benefits planning and assistance services will be judged by:

• Description of how entity will test for Benefits Specialist competencies listed in Part IV and provide any needed training to ensure competencies will be maintained and/or enhanced;(8 points)

• Description of the proposed administration and organization of the project, including the existence of the necessary administrative resources to effectively carry out the project; and(7 points)

• Project Director's and key staff's documentation of experience and results of past projects of this nature (extra consideration may be given to applicants based on the quality and extent of their experience in return-to-work efforts for SSDI and SSI beneficiaries with disabilities).(5 points)

2. Relevance/Adequacy of Project Design (30 points)

The adequacy of project design will be judged by:

• A description of the project operations, including how the project will work (e.g., identification and notification of potential project participants about availability of benefits planning and assistance services, location for providing services, ability to travel to beneficiary, etc.) and the quality of the project design;(6 points)

• A description of how the project will address provision of benefits planning, assistance, and outreach to transition-to-work aged SSI youth;(5 points)

• A description of how the project will address provision of benefits planning, assistance, and outreach to populations with special cultural or language requirements; (5 points)

• Evidence of collaboration with relevant agencies, including collocation within a DOL One-Stop Career Center organization, in providing benefits planning and assistance services; and extent and clarity of collaborative efforts with other organizations, including letters of intent or written assurances; and (5 points)

• A concise and clear statement of the project goals and objectives; MI data to be collected; specification of data sources; and how quality assurance will be realized; (4 points)

• Description of problems that may arise and how they will be resolved; e.g., how dropouts and inadequate numbers of participants will be handled; and (3 points)

• Evidence of how the approach proposed will accomplish Benefits Planning, Assistance, and Outreach Program goals. (2 points)

3. Resources and Management(30 points)

Resources and management will be judged by:

• Appropriateness of qualifications of the project personnel, as evidenced by training and experience indicating that they have the skills required to competently provide benefits planning and assistance services, and outreach; (8 points)

• Evidence of successful previous experience related to benefits planning, assistance, and outreach programs;(4 points)

• Evidence that the applicant has a working knowledge of work incentives and the various programs available to beneficiaries with disabilities;(4 points)

• Evidence of adequate facilities (e.g., collocation within a DOL One-Stop Career Center) and resources to deliver services; (4 points)

• Appropriateness of the case management and monitoring systems and techniques, including an MI system, quality assurance system, and a range of other monitoring and management options; (3 points)

• Extent and quality of project assurances that sufficient resources (including personnel, time, funds, and facilities) will be available to support services to beneficiaries; (3 points)

• Evidence that the applicant will meaningfully involve family members and other representatives of target groups, including advocates in the process of delivery services; and(2 points)

• Cost effectiveness, per client costs, and reasonableness of overall project cost relative to planned services.(2 points)

4. Quality Assurance (20 points)

The applicant's quality assurance plan will be judged by:

• Extent to which training is accommodated and planned for to ensure that all Benefits Specialists maintain knowledge, skills, and abilities, and acquire more; (6 points)

• Extent to which the awardee proposes to use MI data to improve processes and ensure that all information given is accurate and pertinent; (4 points)

• Extent to which the proposed quality assurance plan complies with the requirements of SSA, in terms of data collection, reporting, and ensuring that only accurate information is provided to beneficiaries and others; (4 points)

• Extent to which the proposed staff demonstrate expertise in the area of benefits planning and assistance; and (4 points)

• The extent to which staff have experience collecting, protecting, and analyzing data on beneficiaries with disabilities to provide benefits planning and assistance services, and outreach. (2 points)

Part VI. Instructions for Obtaining and Submitting Application

A. Availability of Forms

The Internet is the primary means recommended for obtaining an application kit under this program announcement. An application kit containing all of the prescribed forms and instructions needed to apply for a cooperative agreement under this announcement may be obtained at the following Internet address: http//www.ssa.gov/oag/grants.

Although the Internet is SSA's preferred method of making application kits available, an application kit also may be obtained by writing to: Grants Management Team, Office of Operations Contracts and Grants, OAG, Social Security Administration, 1-E-4 Gwynn Oak Building, 1710 Gwynn Oak Avenue, Baltimore, Maryland 21207-5279.

Requests submitted by mail should include two return address labels. Also, please provide the name, title and telephone number of the individual to contact; and the organization's name, street address, city, State and zip code.

To ensure receipt of the proper kit, please include program announcement number SSA-OESP-01-2 and the date of this announcement.

B. Checklist for a Complete Application

The checklist below is a guide to ensure that the application package has been properly prepared.

—An original, signed and dated application plus at least two copies. Seven additional copies are optional but will expedite processing.

—The program narrative portion of the application (Part III of the SSA-96-BK) may not exceed thirty double-spaced pages (or fifteen single-spaced pages) on one side of the paper only, using standard (8½″ x 11″) size paper, and 12-point font. Attachments that support the program narrative count towards the 30-page limit.

—Attachments/Appendices, when included, should be used only to provide supporting documentation. Please do not include books or videotapes as they are not easily reproduced and are therefore inaccessible to reviewers.

—A complete application, which consists of the following items in this order:

(1) Part I (Face page)—Application for Federal Assistance (SF 424, REV 4-88);

(2) Table of Contents;

(3) Project Summary (not to exceed one page);

(4) Part II—Budget Information, Sections A through G (Form SSA-96-BK);

(5) Budget Justification (in Section B Budget Categories, explain how amounts were computed), including subcontract organization budgets;

(6) Part III—Application Narrative and Appendices;

(7) Part IV—Assurances;

(8) Additional Assurances and Certifications—regarding Lobbying and regarding Drug-Free Workplace; and

(9) Form SSA-3966-PC—acknowledgement of receipt of application (applicant's return address must be inserted on the form).

C. Guidelines for Application Submission

All applications for cooperative agreement projects under this announcement must be submitted on the prescribed forms included in the application kit. The application shall be executed by an individual authorized to act for the applicant organization and to assume for the applicant organization the obligations imposed by the terms and conditions of the cooperative agreement award.

In item 11 of the Face Sheet (SF 424), the applicant must clearly indicate the application submitted is in response to this announcement (SSA-OESP-01-2). The applicant also is encouraged to select a SHORT descriptive project title.

Applications must be mailed or hand-delivered to: Grants Management Team, Office of Operations Contracts and Grants, OAG, DCFAM, Social Security Administration, Attention: SSA-OESP-00-2, 1-E-4 Gwynn Oak Building, 1710 Gwynn Oak Avenue, Baltimore, MD 21207-5279.

Hand-delivered applications are accepted between the hours of 8:00 a.m. and 5:00 p.m., Monday through Friday. An application will be considered as meeting the deadline if it is either:

1. Received on or before the deadline date at the above address; or

2. Mailed through the U.S. Postal Service or sent by commercial carrier on or before the deadline date and received in time to be considered during the competitive review and evaluation process. Packages must be postmarked by April 5, 2001. Applicants are cautioned to request a legibly dated U.S. Postal Service postmark or to obtain a legibly dated receipt from a commercial carrier as evidence of timely mailing. Private-metered postmarks are not acceptable as proof of timely mailing.

Applications that do not meet the above criteria are considered late applications. SSA will not waive or extend the deadline for any application unless the deadline is waived or extended for all applications. SSA will notify each late applicant that its application will not be considered.

Paperwork Reduction Act

This notice contains reporting requirements. However, the information is collected using form SSA-96-BK, Federal Assistance Application, which has the Office of Management and Budget clearance number 0960-0184.

Dated: December 22, 2000.
Kenneth S. Apfel,
Commissioner of Social Security.

[FR Doc. 01-318 Filed 1-4-01; 8:45 am]

BILLING CODE 4191-02-U